FEDERAL COMMUNICATIONS COMMISSION

47 CFR Part 64

Public Information Collection Approved by Office of Management and Budget

AGENCY: Federal Communications Commission.

ACTION: Notice of effective date.

SUMMARY: The Federal Communications Commission (FCC) has received Office of Management and Budget (OMB) approval for the paperwork information burdens contained in the Report and Order and the Order on Reconsideration regarding implementation of the Communications Assistance for Law Enforcement Act. The effective date for certain rule sections was held in abeyance until OMB approval for these burdens was granted. This document is needed to notify the public that OMB has approved these burdens and to announce the effective date of the associated rules.

DATES: The affected rules, 47 CFR 64.2103, 64.2104, and 64.2105 (64 FR 51462, September 23, 1999) became effective February 2, 2000.

FOR FURTHER INFORMATION CONTACT: John Spencer, 202-418-1310.

SUPPLEMENTARY INFORMATION: The Federal Communications Commission has received OMB approval for the following public information collections pursuant to the Paperwork Reduction Act of 1995, Public Law 96-511. The rules adopted in this proceeding (see Report and Order at 64 FR 51462, September 23, 1999, and Order on Reconsideration at 64 FR 52244, September 28, 1999) are therefore effective February 2, 2000. An agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0809.

Expiration Date: 04/30/00.

Title: Communications Assistance for Law Enforcement Act, Report and Order and Order on Reconsideration.

Form No.: N/A.

Estimated Annual Burden: 36,000 burden hours annually, 6 hours per response; 6,000 responses.

Description: The information filed with the Commission will be used to verify telecommunications carriers' conformance with the CALEA requirements, and the information made available to law enforcement officials will be used to determine the accountability and accuracy of telecommunications carriers' compliance with lawful electronic surveillance orders.

Federal Communications Commission.
Magalie Roman Salas,
Secretary.

[FR Doc. 00-3889 Filed 2-18-00; 8:45 am]

BILLING CODE 6712-01-P